DEPARTMENT OF TRANSPORTATION

Federal Aviation Administration

14 CFR Part 39

[Docket No. 2001-SW-73-AD; Amendment 39-12897; AD 2002-20-02]

RIN 2120-AA64

Airworthiness Directives; Bell Helicopter Textron, A Division of Textron Canada Model 222, 222B, 222U, 230, and 430 Helicopters

AGENCY: Federal Aviation Administration, DOT.

ACTION: Final rule.

SUMMARY: This amendment adopts a new airworthiness directive (AD) for the specified Bell Helicopter Textron, A Division of Textron Canada (BHTC), model helicopters that requires removing sealant from the forward tooling hole in the right-hand upper fuel enclosure area. This amendment is prompted by the determination that fuel or water could accumulate in the right-hand upper fuel enclosure. The actions specified by this AD are intended to prevent accumulation of fuel in the right-hand upper fuel enclosure area, a fire, and a subsequent forced landing.

DATES: Effective November 7, 2002.

The incorporation by reference of certain publications listed in the regulations is approved by the Director of the Federal Register as of November 7, 2002.

ADDRESSES: The service information referenced in this AD may be obtained from Bell Helicopter Textron, A Division of Textron Canada, 12,800 Rue de l'Avenir, Mirabel, Quebec J7J1R4, telephone (450) 437-2862 or (800) 363-8023, fax (450) 433-0272. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Ed Cuevas, Aviation Safety Engineer, FAA, Rotorcraft Directorate, Regulations Group, Fort Worth, Texas 76193-0111, telephone (817) 222-5355, fax (817) 222-5961.

SUPPLEMENTARY INFORMATION: A proposal to amend 14 CFR part 39 to include an AD for BHTC Model 222, 222B, 222U, 230, and 430 helicopters, was published in the Federal Register on April 30, 2002 (67 FR 21185). That action proposed to require removing sealant from the forward tooling hole in the right-hand upper fuel enclosure area.

Transport Canada, the airworthiness authority for Canada, notified the FAA that an unsafe condition may exist on BHTC Model 222, 222B, 222U, 230, and 430 helicopters. Transport Canada advises that a condition exists that can result in an accumulation of fuel in the right-hand upper fuel enclosure area.

BHTC has issued:

• Bell Helicopter Textron Alert Service Bulletin (ASB) No. 222-01-89, for Model 222 helicopters, serial numbers (S/N) 47006 through 47089, and Model 222B helicopters, S/N 47131 through 47156;

• ASB No. 222U-01-60, for Model 222U helicopters, S/N 47501 through 47574;

• ASB No. 230-01-20, for Model 230 helicopters, S/N 23001 through 23038; and

• ASB No. 430-01-21, for Model 430 helicopters, S/N 49001 through 49079.

All of the ASB's are dated February 7, 2001. All of these ASB's specify procedures for removing the sealant from the existing forward tooling hole located in the panel assembly to provide enclosure drainage. Transport Canada classified these ASB's as mandatory and issued AD No. CF-2001-22, dated May 24, 2001, to ensure the continued airworthiness of these helicopters in Canada.

Interested persons have been afforded an opportunity to participate in the making of this amendment. No comments were received on the proposal or the FAA's determination of the cost to the public. The FAA has determined that air safety and the public interest require the adoption of the rule as proposed, with two changes. The manufacturer's name was incorrectly stated in the notice, and is corrected in this AD. Also, the name of the FAA employee to contact for further information is changed in this AD. The FAA has determined that these changes will neither increase the economic burden on any operator nor increase the scope of the AD.

The FAA estimates that 151 helicopters of U.S. registry will be affected by this AD, that it will take approximately 5 work hours per helicopter to accomplish the required actions, and that the average labor rate is $60 per work hour. Based on these figures, the total cost impact of the AD on U.S. operators is estimated to be $45,300.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-20-02 Bell Helicopter Textron, A Division of Textron Canada: Amendment 39-12897. Docket No. 2001-SW-73-AD.

Applicability: Model 222 helicopters, serial numbers (S/N) 47006 through 47089; Model 222B helicopters, S/N 47131 through 47156; Model 222U helicopters, S/N 47501 through 47574; Model 230 helicopters, S/N 23001 through 23038; and Model 430 helicopters, S/N 49001 through 49079, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required at the next annual or 100-hour inspection, whichever occurs first, unless accomplished previously.

To prevent accumulation of fuel in the right-hand upper fuel enclosure area, a fire, and a subsequent forced landing, accomplish the following:

(a) Remove the sealant from the forward tooling hole in the right-hand upper fuel enclosure area in accordance with the Accomplishment Instructions in Bell Helicopter Textron Alert Service Bulletin (ASB) No. 222-01-89, for the Model 222 helicopters and Model 222B helicopters; ASB No. 222U-01-60, for the Model 222U helicopters; ASB No. 230-01-20, for the Model 230 helicopters; and ASB No. 430-01-21, for the Model 430 helicopters, all dated February 7, 2001.

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(c) Special flight permits may be issued in accordance with 14 CFR 21.197 and 21.199 to operate the helicopter to a location where the requirements of this AD can be accomplished.

(d) The sealant removal shall be done in accordance with the Accomplishment Instructions in Bell Helicopter Textron Alert Service Bulletin (ASB) No. 222-01-89, for the Model 222 helicopters and Model 222B helicopters; ASB No. 222U-01-60, for the Model 222U helicopters; ASB No. 230-01-20, for the Model 230 helicopters; and ASB No. 430-01-21, for the Model 430 helicopters, all dated February 7, 2001. This incorporation by reference was approved by the Director of the Federal Register in accordance with 5 U.S.C. 552(a) and 1 CFR part 51. Copies may be obtained from Bell Helicopter Textron, A Division of Textron Canada, 12,800 Rue de l'Avenir, Mirabel, Quebec J7J1R4, telephone (450) 437-2862 or (800) 363-8023, fax (450) 433-0272. Copies may be inspected at the FAA, Office of the Regional Counsel, Southwest Region, 2601 Meacham Blvd., Room 663, Fort Worth, Texas; or at the Office of the Federal Register, 800 North Capitol Street, NW., suite 700, Washington, DC.

(e) This amendment becomes effective on November 7, 2002.

Note 3: The subject of this AD is addressed in Transport Canada (Canada) AD No. CF-2001-22, dated May 24, 2001.

Issued in Fort Worth, Texas, on September 20, 2002.
Eric D. Bries,
Acting Manager, Rotorcraft Directorate, Aircraft Certification Service.

[FR Doc. 02-24991 Filed 10-2-02; 8:45 am]

BILLING CODE 4910-13-P